ENVIRONMENTAL PROTECTION AGENCY

[Region 2 Docket No. NJ60-258; FRL-7506-2]

Adequacy Status of the Submitted 2005 and 2007 Revised Attainment Demonstration Budgets for the 1-Hour Ozone National Ambient Air Quality Standard for Transportation Conformity Purposes for the New Jersey Severe Ozone Nonattainment Areas

AGENCY: Environmental Protection Agency (EPA).

ACTION: Notice of adequacy.

SUMMARY: In this notice, EPA is notifying the public that we have found the revised attainment year motor vehicle emissions budgets (“budgets”) for volatile organic compounds (VOC) and nitrogen oxides (NOX) in the submitted revision to the 1-hour ozone attainment demonstration state implementation plan (SIP) for New Jersey's severe nonattainment areas to be adequate for conformity purposes. These attainment year budgets were recalculated using EPA's latest motor vehicle emissions factor model, MOBILE6. On March 2, 1999, the DC Circuit Court ruled that submitted state implementation plan budgets cannot be used for conformity determinations until EPA has affirmatively found them adequate. As a result of our finding, the New Jersey portion of the New York-Northern New Jersey-Long Island severe ozone nonattainment area can use the revised 2007 attainment year budgets of VOC and NOX from the submitted revision to the 1-hour ozone attainment demonstration SIP for future conformity determinations. These 2007 budgets also apply to the New Jersey portion (Warren County) of the Allentown-Bethlehem-Easton marginal ozone nonattainment area. The New Jersey portion of the Philadelphia-Wilmington-Trenton severe ozone nonattainment area can use the revised 2005 attainment year budgets of VOC and NOX from the submitted revision to the 1-hour ozone attainment demonstration SIP for future conformity determinations. These 2005 budgets also apply to the Atlantic City moderate ozone nonattainment area.

DATES: This finding is effective June 17, 2003.

FOR FURTHER INFORMATION CONTACT: Kenneth M. Champagne, Air Programs Branch, Environmental Protection Agency—Region 2, 290 Broadway, 25th Floor, New York, New York 10007-1866, (212) 637-4249, champagne.kenneth@epa.gov.

The finding and the response to comments will be available at EPA's conformity Web site: http://www.epa.gov/otaq/traq, (once there, click on the “Conformity” button, then look for “Adequacy Review of SIP Submissions for Conformity”).

SUPPLEMENTARY INFORMATION:

Background

Today's notice is simply an announcement of a finding that we have already made. EPA Region 2 sent a letter to the New Jersey Department of Environmental Protection on May 19, 2003, stating that the revised attainment year budgets in the submitted 1-hour ozone attainment demonstration SIP revision (dated April 8, 2003) for the New Jersey portions of the New York-Northern New Jersey-Long Island and Philadelphia-Wilmington-Trenton severe ozone nonattainment areas are adequate for conformity purposes. The purpose of New Jersey's April 8, 2003, submittal was to address its enforceable commitment to revise the attainment year budgets using MOBILE6 within one year of the release of the model. This enforceable commitment was approved by EPA on February 4, 2002 (67 FR 5152). EPA's adequacy finding will also be announced on EPA's conformity Web site: http://www.epa.gov/otaq/traq, (once there, click on the “Conformity” button, then look for “Adequacy Review of SIP Submissions for Conformity”).

Transportation conformity is required by section 176(c) of the Clean Air Act. EPA's conformity rule requires that transportation plans, programs, and projects conform to SIPs and establishes the criteria and procedures for determining whether or not they conform. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in guidance (May 14, 1999 memo titled “Conformity Guidance on Implementation of March 2, 1999 Conformity Court Decision”). We followed this guidance, which can also be found on EPA's Web site at: http://www.epa.gov/otaq/traq, in making our adequacy determination.

Authority: 42 U.S.C. 7401-7671q.

Dated: May 19, 2003.
Jane M. Kenny,
Regional Administrator, Region 2.

[FR Doc. 03-13719 Filed 5-30-03; 8:45 am]

BILLING CODE 6560-50-P